ENVIRONMENTAL PROTECTION AGENCY

[EPA-HQ-OLEM-2020-0571; FRL-10017-09-OLEM]

Hazardous Waste Electronic Manifest System (“e-Manifest”) Advisory Board; Notice of Public Meeting

AGENCY: Environmental Protection Agency (EPA).

ACTION: Notice.

SUMMARY: The Environmental Protection Agency (EPA) will convene the Hazardous Waste Electronic System (“e-Manifest”) Advisory Board for a three (3) day virtual public meeting. The purpose of the meeting is for EPA to seek the Board's consultation and recommendations regarding the e-Manifest system (Meeting Theme: “Looking Ahead: Setting e-Manifest Program Priorities and User Fees for FY2022 and FY2023”).

DATES: The meeting will be held on March 2-4, 2021, from approximately 10:00 a.m. to 6:00 p.m. EST.

ADDRESSES: This public meeting will be conducted virtually. Registration is required to attend and/or provide oral public comment during this meeting. Please refer to the e-Manifest Advisory Board website at https://www.epa.gov/e-manifest/hazardous-waste-electronic-manifest-system-e-manifest-advisory-board for information on how to register either as a public audience attendee or as an oral public commenter.

Comments. To make oral comments during the public meeting and be included on the meeting agenda, please register by noon on February 23, 2021. Registration instructions will be posted on the e-Manifest Advisory Board website at https://www.epa.gov/e-manifest/hazardous-waste-electronic-manifest-system-e-manifest-advisory-board. Any written comments submitted for the e-Manifest Advisory Board meeting on or before February 23, 2021, should be submitted in the public docket under Docket number EPA-HQ-OLEM-2020-0571 at http://www.regulations.gov. Written comments submitted to the public docket on or before February 23, 2021, will be provided to the e-Manifest Advisory Board for their consideration before the meeting. Anyone who wishes to submit comments after February 23, 2021, must send their written public comments or their oral comment requests directly to the Designated Federal Officer (DFO) listed under FOR FURTHER INFORMATION CONTACT. For additional instructions, see section I.B. under SUPPLEMENTARY INFORMATION.

Special accommodations. For information on access or services for individuals with disabilities, and to request accommodation of a disability, please contact the DFO listed under FOR FURTHER INFORMATION CONTACT at least ten (10) days prior to the meeting to give the EPA as much time as possible to process your request.

FOR FURTHER INFORMATION CONTACT: Fred Jenkins, Designated Federal Officer (DFO), U.S. Environmental Protection Agency, Office of Resource Conservation and Recovery, email: jenkins.fred@epa.gov; phone: 703-308-7049.

SUPPLEMENTARY INFORMATION: This meeting will be open to the public. The full agenda and meeting materials will be available in the docket for the meeting and at the e-Manifest Advisory Board website at https://www.epa.gov/e-manifest/hazardous-waste-electronic-manifest-system-e-manifest-advisory-board. This public meeting will be conducted virtually, and registration is required to attend and/or participate. Registration instructions will be posted on the e-Manifest Advisory Board website at https://www.epa.gov/e-manifest/hazardous-waste-electronic-manifest-system-e-manifest-advisory-board. In the event EPA needs to make subsequent changes to this meeting, EPA will post future notices to its e-Manifest Board meeting website (https://www.epa.gov/e-manifest/hazardous-waste-electronic-manifest-system-e-manifest-advisory-board.). EPA strongly encourages the public to refer to the e-Manifest website for the latest meeting information, as sudden changes may be necessary.

I. General Information

A. Does this action apply to me?

This action is directed to the public in general. This action may be of particular interest to persons who are or may be subject to the Hazardous Waste Electronic Manifest Establishment (e-Manifest) Act.

B. How may I participate in this meeting?

You may participate in this meeting by providing public comments via the instructions in this document. To ensure proper receipt of your public comments by the EPA, it is imperative that you submit your comments, identified by docket ID number EPA-HQ-OLEM-2020-0571, at http://www.regulations.gov. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (e.g., on the web, cloud, or other file sharing system). For additional submission methods, the full EPA public comment policy, information about CBI or multimedia submissions, and general guidance on making effective comments, please visit https://www.epa.gov/dockets/commenting-epa-dockets.

1. Written comments. EPA encourages the electronic submission of written comments via http://www.regulations.gov, into docket ID number EPA-HQ-OLEM-2020-0571 on or before February 23, 2021, to provide the e-Manifest Advisory Board the time necessary to consider and review the written comments. Written comments are accepted until the date of the meeting, but anyone submitting written comments after February 23, 2021, should contact the DFO listed under FOR FURTHER INFORMATION CONTACT.

2. Oral comments. EPA encourages each individual or group wishing to make brief oral comments to the e-Manifest Advisory Board to please register as an oral commenter for the meeting at the e-Manifest Advisory Board website, https://www.epa.gov/e-manifest/hazardous-waste-electronic-manifest-system-e-manifest-advisory-board, by noon on February 23, 2021, in order to be included on the meeting agenda. Requests to present oral comments will be accepted until the date of the meeting. Registration is required to attend and/or participate as an oral public commenter in this public meeting. Please refer to the e-Manifest Advisory Board website at https://www.epa.gov/e-manifest/hazardous-waste-electronic-manifest-system-e-manifest-advisory-board for information on how to register either as an oral public commenter or public audience attendee. Anyone submitting an oral public comments request after February 23, 2021, should also contact the DFO listed under FOR FURTHER INFORMATION CONTACT. To the extent that time permits, the Chair of the e-Manifest Advisory Board may permit the presentation of oral comments at the meeting by interested persons who have not previously requested time. The request should identify the name of the individual making the presentation, the organization (if any) that the individual represents, and any requirements for audiovisual presentation support. Oral comments before the e-Manifest Advisory Board are limited to approximately five (5) minutes unless prior arrangements have been made. In addition, each speaker should provide a copy of his or her comments and presentation to the DFO so that they can be distributed to the e-Manifest Advisory Board at the meeting.

C. Purpose of the e-Manifest Advisory Board

The Hazardous Waste Electronic Manifest System Advisory Board is established in accordance with the provisions of the Hazardous Waste Electronic Manifest Establishment Act, 42 U.S.C. 6939g, and the Federal Advisory Committee Act (FACA), 5 U.S.C. App.2. The e-Manifest Advisory Board is in the public interest and supports the EPA in performing its duties and responsibilities. The Board shall meet annually to discuss, evaluate the effectiveness of, and provide recommendations about the system to the EPA Administrator.

The sole duty of the Advisory Board is to provide advice and recommendations to the EPA Administrator. As required by the e-Manifest Act, the e-Manifest Advisory Board is composed of nine (9) members. One (1) member is the EPA Administrator (or a designee), who serves as Chairperson of the Advisory Board. The rest of the committee is composed of:

• At least two (2) members who have expertise in information technology;

• At least three (3) members who have experience in using or represent users of the manifest system to track the transportation of hazardous waste under the e-Manifest Act;

• At least three (3) members who are state representatives responsible for processing manifests.

All members of the e-Manifest Advisory Board, except for the EPA Administrator, are appointed as Special Government Employees or Representatives.

D. Public Meeting

EPA launched the e-Manifest system on June 30, 2018. e-Manifest provides those persons required to use a Resource Conservation and Recovery Act (RCRA) manifest under either federal or state law the option of using electronic manifests to track shipments of hazardous waste and to meet certain RCRA requirements. By enabling the transition from a paper-intensive process to an electronic system, EPA estimates e-Manifest will ultimately save state and industry users more than $50 million annually, once electronic manifests are widely adopted.

Under the Hazardous Waste Electronic Manifest Establishment Act (e-Manifest Act) of 2012, EPA must collect user fees to offset the costs of developing and operating the e-Manifest system. In January 2018, EPA published regulations establishing the methodology which the Agency will use to set and collect user fees for the e-Manifest system. Under the final rule, EPA charges a fee to receiving facilities for each manifest submitted to EPA's e-Manifest system. User fees are tailored to the method used to submit manifests to EPA, e.g., different fees apply for electronic manifests than for paper manifests uploaded to the system. In addition, EPA is required to publish revised user fee schedules at two-year intervals.

The purpose of this March 2-4, 2021, e-Manifest Advisory Board meeting is for the Board to advise EPA on its proposed program priorities and user fees for the FY2022/FY2023 cycle.

E. e-Manifest Advisory Board Documents and Meeting Minutes

The meeting background paper along with related supporting materials including the charge/questions to the Advisory Board, the Advisory Board membership roster (i.e., members attending this meeting), and the meeting agenda will be available by approximately mid-January 2021. In addition, EPA may provide additional background documents as the materials become available. You may obtain electronic copies of these documents, and certain other related documents that might be available at http://www.regulations.gov via the docket ID number EPA-HQ-OLEM-2020-0571 and at the e-Manifest Advisory Board website at: https://www.epa.gov/e-manifest/hazardous-waste-electronic-manifest-system-e-manifest-advisory-board.

The e-Manifest Advisory Board will prepare meeting minutes summarizing its recommendations to EPA approximately ninety (90) days after the meeting. The meeting minutes will be posted on the e-Manifest Advisory Board website, or they may be obtained from the public docket at http://www.regulations.gov via the docket ID number EPA-HQ-OLEM-2020-0571.

Carolyn Hoskinson,
Director, Office of Resource Conservation and Recovery, Office of Land and Emergency Management.

[FR Doc. 2020-28731 Filed 12-28-20; 8:45 am]

BILLING CODE 6560-50-P